DEPARTMENT OF STATE

[Public Notice: 10180]

Additional Designation of North Korean Entities Pursuant to E.O. 13382

AGENCY: Department of State.

ACTION: Additional identifying information concerning the designated entities Namchongang Trading Corporation and Korea Tangun Trading Corporation, pursuant to E.O. 13382.

SUMMARY: Pursuant to the authority in section 1(a)(ii) of Executive Order 13382, “Blocking Property of Weapons of Mass Destruction Proliferators and Their Supporters”, the Secretary of State, in consultation with the Secretary of the Treasury and the Attorney General, has determined that the Korea Kuryonggang Trading Corporation is an alias of Korea Tangun Trading Corporation, and that the Korea Taeryonggang Trading Corporation is an alias of Namchongang Trading Corporation, both of which have previously been designated pursuant to Executive Order 13382.

DATES: The designation of and additional identifying information for the entities identified in this notice pursuant to Executive Order 13382 is effective upon publication of this notice.

FOR FURTHER INFORMATION CONTACT: Philip Foley, Director, Office of Counterproliferation Initiatives, Bureau of International Security and Nonproliferation, Department of State, Washington, DC 20520, tel.: 202-647-5193.

Background: On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

Name: Namchongang Trading Corporation

• AKA: Korea Taeryonggang Trading Corporation

• AKA: Namhung Trading Corporation

• Location: Jungsin-Dong, Sosong District, Pyongyang, Democratic People's Republic of Korea

Name: Korea Tangun Trading Corporation

• AKA: Korea Kuryonggang Trading Corporation

• Location: Chilgol, Mangyongdae District, Pyongyang, Democratic People's Republic of Korea

Rex W. Tillerson,
Secretary of State.

[FR Doc. 2017-23573 Filed 10-30-17; 8:45 am]

BILLING CODE 4710-35-P